DEPARTMENT OF DEFENSE

Department of the Army; Corps of Engineers

Proposed Reduction in Hours of Operation at the Mississippi River Twin Cities Locks Located in Minneapolis, MN

AGENCY: Department of the Army, U.S. Army Corps of Engineers, DOD.

ACTION: Notice.

SUMMARY: The three locks in the Twin Cities (Upper St. Anthony Falls, Lower St. Anthony Falls, and Lock and Dam 1) located in Minneapolis, MN, on the Mississippi River, currently operate at Service Level 1 (24 hours per day/7 days per week) during the navigation season. It is proposed that these three locks and dams transition to Service Level 2 for the 2013 navigation season and beyond. The navigation season on the Upper Mississippi normally begins in March, depending on river conditions. Under Service Level 2, the locks will operate from 7:00 a.m. to 2:00 a.m. and will be closed to lockages between 2:00 a.m. and 7:00 a.m.

Constrained funding has led to reduced Operations and Maintenance funding within the Corps' Inland Marine Transportation System (IMTS). The intended effect of the proposed change reduces operational costs and aligns lock availability with existing levels of lock usage. The Twin Cities locks have less than 1000 commercial lockages per year. Based on guidance adopted by the IMTS Board of Directors, locks operating at Service Level 1 should pass more than 1,000 commercial lockages per year. Pool levels will not be affected by change of operating hours.

DATES: Submit written comments by August 30, 2012, to Mr. Kevin Baumgard, Deputy Chief, Operations Division, U.S. Army Corps of Engineers, 180 Fifth Street East, Suite 700, St. Paul, MN 55101-1678, or by email at kevin.l.baumgard@usace.army.mil. Written comments will also be accepted at the public meeting.

FOR FURTHER INFORMATION CONTACT: Mr. Michael Kidby at Corps of Engineers Headquarters in Washington, DC, by phone at 202-761-0250.

SUPPLEMENTARY INFORMATION: Public meeting: August 7, 2012, from 7:00 p.m. to 8:00 p.m. at the Minneapolis Park and Recreation Board Headquarters, 2117 West River Road Minneapolis, MN.

The legal authority for the regulation governing the use, administration, and navigation of the Twin Cities locks is Section 4 of the River and Harbor Act of August 18, 1894 (28 Stat. 362), as amended, which is codified at 33 U.S.C. Section 1. This statute requires the Secretary of the Army to “prescribe such regulations for the use, administration, and navigation of the navigable waters of the United States” as the Secretary determines may be required by public necessity. Reference 33 CFR 207.300, Mississippi River below mouth of Ohio River, including South and Southwest Passes; use, administration, and navigation.

Brenda S. Bowen,
Army Federal Liaison Officer.

[FR Doc. 2012-15967 Filed 6-28-12; 8:45 am]

BILLING CODE 3720-58-P